NATIONAL AERONAUTICS AND SPACE ADMINISTRATION

[Notice 13-050]

National Space-Based Positioning, Navigation, and Timing (PNT) Advisory Board; Meeting

AGENCY: National Aeronautics and Space Administration (NASA).

ACTION: Notice of Meeting.

SUMMARY: In accordance with the Federal Advisory Committee Act, Public Law 92-463, as amended, and the President's 2004 U.S. Space-Based Positioning, Navigation, and Timing (PNT) Policy, the National Aeronautics and Space Administration (NASA) announces a meeting of the National Space-Based Positioning, Navigation, and Timing (PNT) Advisory Board.

DATES: Tuesday, May 7, 2013, 9:00 a.m. to 5:00 p.m.; and Wednesday, May 8, 2013, 9:00 a.m. to 12:00 p.m., Local Time.

ADDRESSES: The Melrose Hotel, 2430 Pennsylvania Ave NW., Washington, DC 20037.

FOR FURTHER INFORMATION CONTACT: Mr. James J. Miller, Human Exploration and Operations Mission Directorate, NASA Headquarters, Washington, DC 20546, (202) 358-4417, fax (202) 358-2830, or jj.miller@nasa.gov.

SUPPLEMENTARY INFORMATION: The meeting will be open to the public up to the seating capacity of the room. It is imperative that the meeting be held on these dates to accommodate the scheduling priorities of the key participants. Visitors will be requested to sign a visitor's register.

The agenda for the meeting includes the following topics:

• Update on U.S. Space-Based Positioning, Navigation and Timing (PNT) Policy and Global Positioning System (GPS) modernization.

• Explore opportunities for enhancing the interoperability of GPS with other emerging international Global Navigation Satellite Systems (GNSS).

• Examine emerging trends and requirements for PNT services in U.S. and international arenas through PNT Board technical assessments.

• Prioritize current and planned GPS capabilities and services while assessing future PNT architecture options.

• Assess the current and projected economic impact of GPS on the United States, and consider the effects of potential PNT service degradation if adjacent radio-band spectrum interference is introduced.

Patricia D. Rausch,
Advisory Committee Management Officer, National Aeronautics and Space Administration.

[FR Doc. 2013-09224 Filed 4-18-13; 8:45 am]

BILLING CODE P